DEPARTMENT OF ENERGY

Bonneville Power Administration

Lyle Falls Fish Passage Project

AGENCY: Bonneville Power Administration (BPA), Department of Energy (DOE).

ACTION: Notice of intent to prepare an Environmental Impact Statement (EIS) and notice of floodplain and wetlands involvement.

SUMMARY: This notice announces BPA's intention to prepare an EIS on proposed improvements to the Lyle Falls Fishway in Klickitat County, near Lyle, Washington. The improvements would ease fish passage to upstream high quality habitat in the Klickitat Basin and improve capabilities to trap and handle adult fish. The project is designed to meet state and Federal fish passage criteria for all salmonid species, including mid-Columbia steelhead, which are listed as threatened under the Endangered Species Act.

This action may involve floodplains and wetlands located in Klickitat County, Washington. In accordance with DOE regulations for compliance with floodplain and wetlands environmental review requirements, BPA will prepare a floodplain and wetlands assessment and will design this proposed action in a manner so as to avoid or minimize potential harm to or within the affected floodplain and wetlands. The assessment and a floodplain statement of findings will be included in the EIS being prepared for the proposed project in accordance with the National Environmental Policy Act.

DATES: Written comments are due to the address below no later than: July 26, 2006. Comments may also be made at an EIS scoping meeting to be held on July 11, 2006 at the address below.

ADDRESSES: Comments and suggestions on the proposed scope of the Draft EIS, and requests to be placed on the project mailing list, may be mailed to Bonneville Power Administration, Public Affairs Office—DKC-7, P.O. Box 14428, Portland, OR, 97293-4428. Or, you may fax them to (503) 230-3285; submit them on-line at http://www.bpa.gov/comment; or e-mail them to comment@bpa.gov. You may also call us toll-free with your comments at (800) 622-4519. Please reference the Lyle Falls Fish Passage Project with your comments.

On Tuesday, July 11, 2006, a scoping meeting will be held from 7 p.m. to 9 p.m. at the Lyle Lions Community Center, 5th Street and State Highway 14, Lyle, Washington. At this meeting, we will provide information about the project, including maps, and have members of the project team available to answer questions. We look forward to accepting oral and written comments offered on the project.

We also invite interested parties to attend a site visit that is planned for 3 p.m., Tuesday, July 11, 2006, to view the proposed project site. To get to the project site from State Highway 14 in the town of Lyle, take Route 142 north for about two miles, then turn west onto Fishers Hill Road. Cross the Klickitat River and follow the road for less than one-fourth mile. Make a right onto an unpaved road and proceed about seven hundred feet. There will be signs provided to help direct traffic.

FOR FURTHER INFORMATION, CONTACT: Carl J. Keller, Environmental Project Manager, Bonneville Power Administration, KEC-4, P.O. Box 3621, Portland, Oregon, 97208-3621; toll-free telephone number (800) 622-4519; fax number (503) 230-5699; e-mail address cjkeller@bpa.gov.

SUPPLEMENTARY INFORMATION: Background: BPA is a federal power marketing agency that markets power from many of the federal dams in the Columbia River Basin, and has a duty to protect, mitigate, and enhance fish affected by the construction and operation of those dams. The Yakama Nation, through the Northwest Power Planning and Conservation Council, has proposed that BPA fund the reconstruction of the existing fish passage facility as part of those mitigation responsibilities. The proposed project in on the Klickitat River in Klickitat County, Washington in T3N, R12E, west half of Section 25 and east half of Section 26. The location is about two miles upriver of the confluence of the Klickitat River with the Columbia River. Currently the Lyle Falls Fishway does not meet federal and state fish passage criteria for migrating adult salmon. Design flows in the existing fishway result in poor attraction flows throughout the year, and significantly reduced attraction flows during periods of low river discharge (August—September). During these periods of low flows the natural falls become an even greater obstruction to salmon and steelhead, resulting in lowered passage above Lyle Falls.

Proposed Action: The proposed action is to improve and expand the Lyle Falls Fishway. The project would be designed to safely and effectively allow adult fish to move through the existing Lyle Falls into the upper reaches of the Klickitat River, and would improve the adult trapping capabilities at the fishway. Improvements would include reconstructing and lengthening the fishway and trash racks, upgrading the adult trapping facility, and adding a Passive Integrated Transponder (PIT) tag detector and video monitor. The adult trap would facilitate the collection of fish for monitoring and broodstock purposes.

Process to Date: The Yakama Nation has proposed the project to support its fish passage and fish conservation initiatives. At a meeting held in March 2006, the Northwest Power and Conservation Council recommended that BPA fund the preparation of an EIS to focus on fish passage and monitoring at Lyle Falls.

Alternatives Proposed for Consideration: BPA has identified two alternatives for examination in the DEIS. They are the proposed action, described above, and no action. We will use the no-action alternative to explore the environmental impacts of not improving the existing ladder and passage facilities at Lyle Falls. We will also consider in the Draft EIS other reasonable alternatives presented to us during the scoping process.

Public Participation and Identification of Environmental Issues: BPA has established a 30-day scoping period during which interested and affected landowners, concerned citizens, tribes, special interest groups, government agencies, and any other interested parties are invited to comment on the scope of the proposed EIS. Scoping will help BPA ensure that a full range of issues related to this proposal is addressed in the EIS, and also will help identify significant or potentially significant impacts that may result from the proposed project. Environmental issues identified to date include potential conflicts with the Klickitat Wild and Scenic River designation, use of explosives during construction, impacts to archaeological and historic resources, impacts to threatened and endangered species, and water quality impacts.

When completed, the Draft EIS will be circulated for public and agency review and comment; BPA will hold at least one public comment meeting for the Draft EIS. BPA will consider and respond in the Final EIS to comments received on the Draft EIS. BPA's subsequent decision will be documented in a publicly available Record of Decision.

Maps and further information are available from BPA at the address above.

Issued in Portland, Oregon, on June 20, 2006.
Stephen J. Wright,
Administrator and Chief Executive Officer.

[FR Doc. E6-9999 Filed 6-23-06; 8:45 am]

BILLING CODE 6450-01-P